DEPARTMENT OF HEALTH AND HUMAN SERVICES

Centers for Disease Control and Prevention

[60-Day-08-08BP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Audience Profiling for Carbon Monoxide Poisoning Prevention Status—New—National Center for Environmental Health (NCEH), Coordinating Center for Environmental Health and Injury Prevention (CCEHIP), Centers for Disease Control and Prevention (CDC).

Background and Brief Description

Carbon monoxide (CO) is one of the leading causes of poison-related deaths in the United States. The Centers for Disease Control and Prevention (CDC) estimates that each year approximately 500 people die of unintentional, nonfire-related CO exposure, and another 15,000 individuals visit emergency rooms for treatment from exposure to CO gas.

Despite our current knowledge of scenarios and products that lead to CO poisoning, questions remain about when and how individuals use CO-emitting products, why they engage in certain risk behaviors, how best to inform them about the CO poisoning, and how receptive they are to existing prevention materials. This study aims to address these questions through assessing the basis for current audience knowledge, attitudes, and practices and, ultimately, strengthen educational materials about CO poisoning prevention.

The study will employ the use of qualitative methods during three phases of data collection. Phase I will consist of eight in-person focus groups among home furnace owners and portable generator owners (n=64) as well as four telephone interviews with organizations that serve populations at risk for CO poisoning (n=4). Phase II will consist of analyzing previously collected data on consumer media usage and preferences. Phase III will consist of 16 in-person triad interviews (3 individuals per interview) with home furnace owners and portable generator owners (n=48) to pretest CO poisoning educational materials.

NCEH will identify individuals for the focus groups and triad interviews using recruiting firms that specialize in the two at-risk populations: 1. home furnace owners and 2. portable generator owners. Individuals in these two groups will be screened over the telephone by the recruiting firms, and if they meet the eligibility criteria, will be invited to participate in the study. At the end of each focus group and triad interview, NCEH will ask participants to complete a brief exit questionnaire on demographics and media usage.

There is no cost to respondents other than their time.

Estimated Annualized Burden Hours
Respondents (focus group, phone interview, and triad participants) | Instrument type | Number of respondents | Number of responses per respondent | Average burden per response (in hours) | Total burden (in hours)
Owners of Gas or Oil Burning Household Appliances | Focus Group Screener Focus Group Exit Questionnaire Triad Screener Triad | 64 32 32 48 24 | 1 1 1 1 1 | 10/60 2 10/60 10/60 2 | 11 64 5 8 48
Owners of Portable Gas Burning Generator | Focus Group Screener Focus Group Exit Questionnaire Triad Screener Triad | 64 32 32 48 24 | 1 1 1 1 1 | 10/60 2 10/60 10/60 2 | 11 64 5 8 48
Expert | Telephone Interview | 4 | 1 | 1 | 4
Total |  |  |  |  | 276

Dated: September 11, 2008.
Maryam Daneshvar,
Acting Reports Clearance Officer, Centers for Disease Control and Prevention.

[FR Doc. E8-21690 Filed 9-16-08; 8:45 am]

BILLING CODE 4163-18-P